NATIONAL SCIENCE FOUNDATION

Advisory Committee for Computer and Information Science and Engineering; Notice of Meeting

In accordance with Federal Advisory Committee Act (Pub. L. 92-463, as amended), the National Science Foundation announces the following meeting:

Name: Advisory Committee for Computer and Information Science and Engineering (1115)

Date/Time: May 15, 2014: 12:30 p.m. to 6:00 p.m., May 16, 2014: 8:30 a.m. to 2:00 p.m.

Place: National Science Foundation, 4201 Wilson Boulevard, Suite 1235, Arlington, Virginia 22203

Type of Meeting: Open.

Contact Person: Carmen Whitson, National Science Foundation, 4201 Wilson Boulevard, Suite 1105, Arlington, Virginia 22203 703/292-8900

Purpose of Meeting: To advise NSF on the impact of its policies, programs and activities on the CISE community. To provide advice to the Assistant Director for CISE on issues related to long-range planning, and to form ad hoc subcommittees and working groups to carry out needed studies and tasks.

Agenda

• Overview of CISE FY 2015 budget priorities

• CISE programmatic updates

• Updates from other NSF AC's, including CEOSE and ACCI

• Working group breakout sessions

• Discussion on Computer Science Education and Workforce Development

• Update from CISE Vision 2025 working group

• Discussion with Dr. France Córdova

• Closing remarks and wrap up

Dated: April 28, 2014.
Suzanne Plimpton,
Acting, Committee Management Officer.

[FR Doc. 2014-09993 Filed 5-1-14; 8:45 am]

BILLING CODE 7555-01-P